DEPARTMENT OF COMMERCE

International Trade Administration

A-533-809

Certain Forged Stainless Steel Flanges from India; Rescission of Administrative Review

AGENCY: Import Administration, International Trade Administration, Department of Commerce.

SUMMARY: On August 1, 2008, the Department of Commerce (the Department) published the preliminary intent to rescind and rescission in part for the administrative review of the antidumping duty order on certain forged stainless steel flanges (stainless steel flanges) from India manufactured by Pradeep Metals Limited (Pradeep) and covering the period February 1, 2007, through January 31, 2008. See Certain Forged Stainless Steel Flanges from India; Preliminary Intent to Rescind Administrative Review and Rescission in Part, 73 FR 44969 (August 1, 2008) (Preliminary Intent). We are rescinding the review for Pradeep because we have determined that it had no bona fide U.S. sales during the period of review.

EFFECTIVE DATE: October 27, 2008.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On August 1, 2008, the Department published the Preliminary Intent. In response to the Department's invitation to comment on the Preliminary Intent, Pradeep submitted comments on August 27, 2008. However, these comments included new, unsolicited information after the regulatory deadline for such information. Therefore, we returned the submission to Pradeep, and requested that it remove the new information. See the Department's letter to Pradeep dated September 8, 2008. Pradeep resubmitted its comments on September 17, 2008. However, Pradeep had not removed the new, unsolicited information. Therefore, we returned Pradeep's comments, and have not considered them in these final results of review. See the Department's letter to Pradeep dated September 23, 2008.

We also received comments from Rosemount, Inc. (Rosemount), the customer for Pradeep's U.S. sale, on September 2, 2008. However, this submission likewise contained new, unsolicited information after the deadline for such information. Therefore, we returned the submission to Rosemount with instructions to remove the new information. See the Department's letter to Rosemount dated September 8, 2008. We received Rosemount's revised comments on September 15, 2008. However, this version had filing deficiencies for which we returned the submission to Rosemount. See the Department's letter to Rosemount dated September 23, 2008. Rosemount submitted a revised version on September 26, 2008.

Period of Review

The period of review is February 1, 2007, to January 31, 2008.

Scope of the Order

The products covered by this order are certain forged stainless steel flanges, both finished and not finished, generally manufactured to specification ASTM A-182, and made in alloys such as 304, 304L, 316, and 316L. The scope includes five general types of flanges. They are weldneck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheadings are provided for convenience and customs purposes, the written description of the merchandise under review is dispositive of whether or not the merchandise is covered by the scope of the order.

Final Rescission of Review

In the Preliminary Intent, we stated that we intended to rescind the review with respect to Pradeep because we had determined, based on the totality of the circumstances, that Pradeep's U.S. sale was not bona fide. See Preliminary Intent at 44970. We received comments from Rosemount which, as explained below, we have addressed in the issues and decision memorandum accompanying this notice. Rosemount's comments did not change our preliminary ruling announced in the Preliminary Intent. Therefore, we are rescinding this review with respect to Pradeep.

Analysis of Comments Received

All issues raised in our Preliminary Intent are addressed in the “Issues and Decision Memorandum” from Richard Weible, Director, Office 7, Import Administration, to Stephen J. Claeys, Deputy Assistant Secretary for Import Administration, dated concurrently with this notice (Decision Memorandum), which is hereby adopted by this notice. A list of the issues which parties have raised and to which we have responded, all of which are in the Decision Memorandum, is attached to this notice as an appendix. Parties can find a complete discussion of all issues raised in this review and the corresponding recommendations in this public memorandum which is on file in the Central Records Unit, room 1117 of the main Department of Commerce building. In addition, a complete version of the decision memorandum can be accessed directly on the Web at http://ia.ita.doc.gov/frn/release/release.html. The paper copy and electronic version of the decision memorandum are identical in content.

Assessment

The Department will instruct U.S. Customs and Border Protection (CBP) to assess antidumping duties on all appropriate entries. For Pradeep, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Interested Parties

This notice also serves as a final reminder to importers of their responsibility under 19 CFR 351.402(f)(2) to file a certificate regarding the reimbursement of antidumping duties prior to liquidation of the relevant entries during this review period. Failure to comply with this requirement could result in the Department's presumption that reimbursement of antidumping duties occurred, and the subsequent assessment of double antidumping duties.

We are issuing and publishing this notice in accordance with sections 751(a)(1) and 777(i)(1) of the Tariff Act of 1930, as amended.

Dated: October 20, 2008.
Stephen J. Claeys,
Deputy Assistant Secretary for Import Administration.

Appendix - Issues Raised in Decision Memorandum

Comment: Bona Fide Sale

[FR Doc. E8-25548 Filed 10-24-08; 8:45 am]

BILLING CODE 3510-DS-S